DEPARTMENT OF AGRICULTURE

Forest Service

Young Dodge SEIS; Kootenai National Forest, Lincoln County, MT

AGENCY: Forest Service, USDA.

ACTION: Notice of intent to prepare a supplemental environmental impact statement.

SUMMARY: The Forest Service will prepare a Supplemental Environmental Impact Statement (SEIS) for the Young Dodge project. The Young Dodge project includes urban interface fuels treatments, vegetation management, watershed rehabilitation activities, wildlife habitat improvement, and access management changes, including road decommissioning. The project is located in the Young Dodge planning subunit on the Rexford Ranger District, Kootenai National Forest, Lincoln County, Montana, and seven miles northwest of Eureka, Montana. The Notice of Availability of the Draft EIS for this project was published in the Federal Register (70 FR 14315) on February 22, 2008, and the notice of the Final EIS (70 FR 38131) on May 1, 2008. The Record of Decision on this project was administratively appealed to the Regional Forester per 36 CFR part 215. The Regional Forester reversed the decision on July 24, 2008, citing insufficient evidence or rationale to explain why an analysis of potential effects on the goshawk was not warranted. A Supplemental EIS is being prepared to further address potential effects of the Young Dodge project on wildlife species.

ADDRESSES: The line officer responsible for this analysis is: Glen M. McNitt, District Ranger, Eureka Ranger Station, Rexford Ranger District, 949 Highway 93 North, Eureka, MT 59917.

FOR FURTHER INFORMATION CONTACT: Pat Price, Team Leader, Rexford Ranger District, at (406) 296-2536.

SUPPLEMENTARY INFORMATION: The Young Dodge project area is approximately seven miles northwest of Eureka, Montana, within all or portions of T37N R28W and part of T37N R29W, PMM, Lincoln County, Montana. The purpose and need for the project is to: (1) Reduce fuel accumulations, both inside and outside the Wildland-Urban Interface, to decrease the likelihood that fires would become stand-replacing wildfires; (2) Restore historical vegetation species and stand structure; and (3) Restore historical patch sizes. Other considerations are: (4) Identify the minimum transportation system necessary to provide safe, reasonable, and efficient access for Forest Service administrative activities and fire suppression, recreation use and public access, and private land owners and utility companies; (5) Manage the transportation system to reduce effects to threatened, endangered, sensitive, and management indicator species habitat and security; streams, riparian areas, and wetlands; big game winter range; and old growth habitat, and to minimize road maintenance costs; (6) Evaluate recreation facilities and opportunities to meet growing and anticipated demand; and (7) Evaluate existing and proposed Special Use Permits.

The Young Dodge Record of Decision (ROD) was released at the same time as the Final EIS and the legal notice of decision was published in the newspaper of record on May 1, 2008. The ROD selected Alternative 1 and authorized the following: (1) Removal of commercial timber products from 29 units totaling approximately 3,069 acres in order to reduce fuel accumulations, both within and outside of the wildland-urban interface, to decrease the likelihood that wildfires would become large stand-replacing wildfires, and to restore historical vegetation patterns, stand structure, and patch sizes on the landscape. Another 1,053 acres may have commercial products removed in units identified in the “Prescribed Burn with Mechanical Pre-Treatment” category; (2) Salvage of up to 200 acres of incidental mortality resulting from prescribed fire, if necessary. This salvage would be expected to take place in or adjacent to treatment units authorized under this decision; (3) Use of site-specific silvicultural prescriptions, logging systems, fuel treatments, riparian habitat conservation areas, and reforestation practices; (4) Underburning without harvest in 19 units totaling approximately 4,000 acres in order to achieve fuel reduction objectives; (5) Road maintenance activities on portions of 100 miles of roads in order to reduce impacts to soil and water resources; decommissioning of approximately 12 miles of roads to provide beneficial effects to the watersheds; placing approximately 27 miles of roads in intermittent stored service status to restore natural drainage patterns and reduce maintenance costs; reconstruct approximately 0.4 miles of existing roads; and adding about 9 miles of “unauthorized” roads to the National Forest Road System; (6) Construction of a boat ramp, parking area, and restroom to provide access on the west shore of Koocanusa Reservoir; (7) Rerouting and reconstructing approximately one and a half miles of non-motorized hiking trail and construct a small parking area; (8) Renovation of the Robinson Mountain Lookout to include it in the cabin rental program; (9) A project-specific Forest Plan amendment to Management Area (MA) 12 Wildlife and Fish standard #7 to allow regeneration harvest in big game movement corridors adjacent to previous harvest openings and openings greater than 40 acres; (10) A project-specific Forest Plan amendment to MA 12 Timber Standard #2 to allow harvest adjacent to units that do not provide suitable hiding cover; and (11) A project-specific Forest Plan amendment to MA 12 Facilities Standard #3 to allow open road density to exceed 0.75 mi/mi² during project implementation and post-project.

The SEIS is intended to provide additional documentation of the effects of the Young Dodge project on goshawk to the public.

A Draft SEIS is expected to be available for public review and comment in April 2010; and a Final SEIS in June 2010. The comment period for the Draft SEIS will be 45 days from the date the EPA publishes the notice of availability in the Federal Register.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

Reviewers may wish to refer to the Council on Environmental Quality regulations for implementing the procedural provisions of the National Environmental Policy Act at 40 CFR 1503.3 in addressing these points.

Responsible Official

The Forest Supervisor of the Kootenai National Forest, 31374 U.S. Highway 2, Libby, MT 59923, is the Responsible Official for this project. The Record of Decision will identify the land management activities to be implemented in the project area including urban interface fuels treatments, vegetation management, watershed rehabilitation activities, wildlife habitat improvement, access management changes, including road decommissioning, monitoring, and whether or not a Forest Plan amendment is necessary. The Forest Supervisor will make a decision on this project after considering comments and responses, environmental consequences discussed in the Final SEIS, and applicable laws, regulations and policies. The decision and supporting reasons will be documented in a Record of Decision.

Dated: March 24, 2010.
Paul Bradford,
Forest Supervisor, Kootenai National Forest.

[FR Doc. 2010-7486 Filed 4-1-10; 8:45 am]

BILLING CODE 3410-11-P